DEPARTMENT OF AGRICULTURE

Natural Resources Conservation Service

Notice of Proposed Change to Section I of the South Dakota and North Dakota State Technical Guides

AGENCY: Natural Resources Conservation Service (NRCS), United States Department of Agriculture.

ACTION: Notice of Availability of proposed changes in the South Dakota and North Dakota NRCS State Technical Guides for review and comment.

SUMMARY: The NRCS State Conservationists for South Dakota and North Dakota have determined that changes must be made to the NRCS State Technical Guides concerning State wetland mapping conventions. The two States are proposing to issue joint State wetland mapping conventions. The joint State wetland mapping conventions will be used as part of the technical documents to conduct wetland determinations on agriculture land as part of the National Food Security Act of 1985, as amended.

DATES: Comments will be received for a 30-day period commencing with the date of this publication.

FOR FURTHER INFORMATION CONTACT: For South Dakota, inquire in writing to Janet L. Oertly, State Conservationist, NRCS, Federal Building, 200 Fourth Street, SW., Room 203, Huron, South Dakota 57350; Telephone number (605) 352-1200; Fax number (605) 352-1288. Copies of the joint State wetland mapping conventions will be made available upon written request to the address shown above or on the South Dakota NRCS Web site: http://www.sd.nrcs.usda.gov/Public_Notices.html.

For North Dakota, inquire in writing to Paul J. Sweeney, State Conservationist, NRCS, 220 East Rosser Avenue, Federal Building, Room 270, Bismarck, North Dakota 58501; Telephone number (701) 530-2000; Fax number (701) 530-2109. Copies of the joint State wetland mapping conventions will be made available upon written request to the address shown above or on the North Dakota NRCS Web site: http://www.nd.nrcs.usda.gov/Public_notices.html.

SUPPLEMENTARY INFORMATION: Section 343 of the Federal Agriculture Improvement and Reform Act of 1996 states that revisions made after enactment of the law to NRCS State Technical Guides used to carry out highly erodible land and wetland provisions of the law shall be made available for public review and comment. For the next 30 days, the NRCS in South Dakota and North Dakota will receive comments relative to the proposed changes. Following that period, a determination will be made by the NRCS in South Dakota and North Dakota regarding disposition of those comments and a final determination of change will be made to the State wetland mapping conventions.

Dated: February 4, 2011.
Janet L. Oertly,
State Conservationist, Natural Resources Conservation Service, Huron, South Dakota.
Paul J. Sweeney,
State Conservationist, Natural Resources Conservation Service, Bismarck, North Dakota.

[FR Doc. 2011-3114 Filed 2-10-11; 8:45 am]

BILLING CODE 3410-16-P